SMALL BUSINESS ADMINISTRATION

[Disaster Declaration # 14763 and # 14764]

Oklahoma Disaster # OK-00104

AGENCY: U.S. Small Business Administration.

ACTION: Notice

SUMMARY: This is a notice of an Administrative declaration of a disaster for the State of Oklahoma dated 07/08/2016

Incident: Severe storms, tornadoes, straight-line winds and flooding

Incident Period: 06/11/2016 Through 06/19/2016

Effective Date: 07/08/2016

Physical Loan Application Deadline Date: 09/06/2016

Economic Injury (EIDL) Loan Application Deadline Date: 04/10/2017

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street SW., Suite 6050, Washington, DC 20416

SUPPLEMENTARY INFORMATION: Notice is hereby given that as a result of the Administrator's disaster declaration, applications for disaster loans may be filed at the address listed above or other locally announced locations.

The following areas have been determined to be adversely affected by the disaster:

Primary Counties: Comanche

Contiguous Counties:

Oklahoma: Caddo, Cotton, Grady, Kiowa, Stephens, Tillman

The Interest Rates are:

| Percent
For Physical Damage:
Homeowners With Credit Available Elsewhere | 3.250
Homeowners Without Credit Available Elsewhere | 1.625
Businesses With Credit Available Elsewhere | 6.250
Businesses Without Credit Available Elsewhere | 4.000
Non-Profit Organizations With Credit Available Elsewhere | 2.625
Non-Profit Organizations Without Credit Available Elsewhere | 2.625
For Economic Injury:
Businesses & Small Agricultural Cooperatives Without Credit Available Elsewhere | 4.000
Non-Profit Organizations Without Credit Available Elsewhere | 2.625

The number assigned to this disaster for physical damage is 14763 B and for economic injury is 14764 0.

The State which received an EIDL Declaration # is Oklahoma

(Catalog of Federal Domestic Assistance Number 59008)

Dated: July 8, 2016.
Maria Contreras-Sweet,
Administrator.

[FR Doc. 2016-16825 Filed 7-15-16; 8:45 am]

BILLING CODE 8025-01-P